DEPARTMENT OF THE INTERIOR

Bureau of Land Management

[UT-030-1430-ES; UTU-79248, UTU-79249]

Notice of Realty Action; Recreation and Public Purposes Act Classification and Application for Conveyance; Utah

AGENCY: Bureau of Land Management, Interior.

ACTION: Notice.

SUMMARY: The following public land in Garfield County, Utah, has been Congressionally directed under section 201(d) of Public Law 105-355 as amended, to be conveyed to Garfield County School District and/or Tropic, Utah, in accordance with the provisions of section 1 of the Act of June 14, 1926, as amended, 43 U.S.C. 869 et seq., commonly known as the Recreation and Public Purposes (R&PP) Act, and examined and classified as suitable for conveyance under the R&PP Act:

Salt Lake Meridian

T. 37 S., R. 3 W.

Section 3, lots 2 and 3, SE¼NW¼, S½NE¼

The area described contains 198.16 acres.

FOR FURTHER INFORMATION CONTACT: Darrell “Butch” Olsen, Realty Specialist, Bureau of Land Management, P.O. Box 225, Escalante, Utah 84726, 435-826-5611.

SUPPLEMENTARY INFORMATION: The purpose of the classification and application for conveyance of this land is for Garfield County School District to use 24.90 acres for development of a multi-use educational/recreational complex, and for the town of Tropic to use the remaining 173.26 acres for development of a cultural/natural history museum, interpretive trail network, equestrian park and golf course.

1. The patents when issued will contain reservations to the United States for ditches, canals and all minerals, and will be subject to all valid existing rights and reservations.

2. Upon publication of this notice in the Federal Register, the above described land will be segregated from all forms of appropriation under the public land laws, including the general mining laws, except for recreation and public purposes and leasing under the mineral leasing laws.

Dated: April 7, 2001.
Marietta Eaton,
Acting Monument Manager.

[FR Doc. 01-9774 Filed 4-19-01; 8:45 am]

BILLING CODE 4310-84-P